COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by the nonprofit agencies employing persons who are blind or have other severe disabilities.

Comments Must Be Received On or Before: 12/29/2014.

ADDRESSES: Committee for Purchase From People Who Are Blind or Severely Disabled, 1401 S. Clark Street, Suite 10800, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agencies employing persons who are blind or have other severe disabilities.

The following products are proposed for addition to the Procurement List for production by the nonprofit agencies listed:

Products

NSN: 7520-00-NIB-2202—Presentation Easel, Magnetic Whiteboard/Flipchart, 27″ × 35″, Adjustable Height Tripod Base

NSN: 7520-00-NIB-2203—Presentation Easel, Dbl. Sided Melamine Whiteboard/Flipchart, 27″ × 34″, Blk. U-Shaped Adj. Base

NSN: 7520-00-NIB-2204—Presentation Easel, Dbl. Sided 26″ × 34″ White Board/Flipchart, Black Frame, Adj. U-Shaped Base

NSN: 7520-00-NIB-2253—Presentation Easel, Melamine, 29″ × 40″ White Board/Flipchart, Black 4-Legged Adjustable Frame

NSN: 7520-00-NIB-2254—Presentation Easel w/Pad, Magnetic Whiteboard, 27″ × 39″, Silver U-shaped Frame, Adj. Height & Arms

NSN: 7520-00-NIB-2256—Presentation Easel, Melamine Whiteboard/Flipchart, 26″ × 35″, Black Frame, Adjustable Height

NPA: The Lighthouse for the Blind, Inc. (Seattle Lighthouse), Seattle, WA

Contracting Activity: General Services Administration, Arlington, VA

Coverage: A-List for the Total Government Requirement as aggregated by the General Services Administration, Arlington, VA.

NSN: MR 10666—Thermos, 25 oz, Licensed.

NSN: MR 10667—Tumbler, Drinking, 16 oz, Licensed.

NSN: MR 10668—Jar, Drinking, 19 oz, Licensed.

NPA: Winston-Salem Industries for the Blind, Inc., Winston-Salem, NC.

Contracting Activity: Defense Commissary Agency, Fort Lee, VA.

Coverage: C-List for the requirements of military commissaries and exchanges as aggregated by the Defense Commissary Agency, Fort Lee, VA.

Barry S. Lineback,
Director, Business Operations.

[FR Doc. 2014-28115 Filed 11-26-14; 8:45 am]

BILLING CODE 6353-01-P